DEPARTMENT OF TRANSPORTATION

Coast Guard

[USCG-2001-11220]

Random Drug Testing Rate for Covered Crewmembers

AGENCY: Coast Guard, DOT.

ACTION: Notice of minimum random drug testing rate.

SUMMARY: The Coast Guard has set the calendar year 2002 minimum random drug testing rate at 50 percent of covered crewmembers. An evaluation of the 2000 Management Information System (MIS) data collection forms submitted by marine employers determined that random drug testing on covered crewmembers for the calendar year 2000 resulted in positive test results 1.81 percent of the time. Based on this percentage, we will maintain the minimum random drug testing rate at 50 percent of covered crewmembers for the calendar year 2002.

DATES: The minimum random drug testing rate is effective January 1, 2002 through December 31, 2002. You must submit your 2001 MIS reports no later than March 15, 2002.

ADDRESSES: You must mail your annual MIS report to Commandant (G-MOA), U.S. Coast Guard Headquarters, 2100 Second Street SW, Room 2403, Washington, DC 20593-0001.

FOR FURTHER INFORMATION CONTACT: For questions about this notice, please contact Lieutenant Commander Scott Budka, Project Manager, Office of Investigations and Analysis (G-MOA), U.S. Coast Guard Headquarters, telephone 202-267-2026.

SUPPLEMENTARY INFORMATION: Under 46 CFR 16.230, the Coast Guard requires marine employers to establish random drug testing programs for covered crewmembers on inspected and uninspected vessels. All marine employers are required to collect and maintain a record of drug testing program data for each calendar year, January 1 through December 31. You must submit this data by 15 March of the following year to the Coast Guard in an annual MIS report (Form CG-5573 found in Appendix B of 46 CFR 16). You may either submit your own MIS report or have a consortium or other employer representative submit the data in a consolidated MIS report. The chemical drug testing data is essential to analyze our current approach for deterring and detecting illegal drug abuse in the maritime industry.

Since 2000 MIS data indicates that the positive random testing rate is greater than one percent industry-wide (1.81 percent), the Coast Guard announces that the minimum random drug testing rate is set at 50 percent of covered employees for the period of January 1, 2002 through December 31, 2002 in accordance with 46 CFR 16.230(e).

Each year we will publish a notice reporting the results of the previous calendar year's MIS data, and the minimum annual percentage rate for random drug testing for the next calendar year.

Dated: December 17, 2001.
Paul J. Pluta,
Assistant Commandant for Marine Safety and Environmental Protection.

[FR Doc. 01-32044 Filed 12-28-01; 8:45 am]

BILLING CODE 4910-15-U